DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for September 11-12, 2001, beginning at 8:30 a.m. on September 11. Arrange for oral presentations by September 5.

ADDRESSES: Doubletree Hotel Seattle Airport, 18740 International Boulevard, Cascade Rooms 5 and 6, Seattle, Washington.

FOR FURTHER INFORMATION CONTACT: Effie M. Upshaw, Office of Rulemaking, ARM-209, FAA, 800 Independence Avenue, SW., Washington, DC 20591, Telephone (202) 267-7626, FAX (202) 267-5076, or e-mail at effie.upshaw@faa.gov.

SUPPLEMENTARY INFORMATION: Pursuant to section 10(a)(2) of the Federal Advisory Committee Act (Pub. L. 92-463; 5 U.S.C. app. III), notice is given of an ARAC meeting to be held September 11-12, in Seattle Washington.

The agenda will include:

September 11, 2001

• Opening Remarks

• FAA Report

• Joint Aviation Authorities Report

• Executive Committee Report

• Harmonization Management Team Report

• Review of Proposed New Tasking List

• Continued Airworthiness Methodology Working Group Report and Approval

• Mechanical Systems HWG Report and Approval

• Design for Security HWG Report

• Ice Protection HWG Report

• Engine HWG Report

• Human Factors Harmonization Working Group (HWG) Report

• Powerplant Installation HWG Report

• Flight Test HWG Report

• Electromagnetic Effects HWG Report

• Seat Test HWG Report

September 12, 2001

• General Structures HWG Report

• Airworthiness Assurance Working Group Report and Approval

• System Design and Analysis HWG Report

• Flight Guidance System HWG Report

• Extended Range with Two-Engine Aircraft (ETOPS) Tasking Update

• Loads & Dynamics HWG Report and Approval

• Flight Controls HWG Report

• Avionics Systems HWG Report

• Electrical Systems HWG Report

The Continued Airworthiness Assessment Methodology Working Group plans to seek approval of a technical report that it drafted under the fast track process. Three HWG's will be seeking approval of work plans: The Mechanical Systems HWG will be addressing taskings associated with §§ 25.841(a) and 25.831(g), the Airworthiness Assurance Working Group will be addressing a tasking associated with multiple supplemental type certificates, and the Loads and Dynamics HWG will be addressing a tasking associated with § 25.301(b).

Attendance is open to the public, but will be limited to the availability of meeting room space and telephone lines. Details for participating in the teleconference will be available after September 4 on the ARAC calendar at http://www.faa.gov/avr/arm/araccal/htm, or by contacting the person listed in the FOR FURTHER INFORMATION CONTACT section. Persons participating by telephone will be responsible for paying long distance charges.

The public must make arrangements by September 5 to present oral statements at the meeting. Written statements may be presented to the committee at any time by providing 25 copies to the Assistant Executive Director for Transport Airplane and Engine issues or by providing copies at the meeting. Copies of the documents to be presented to ARAC for decision or as recommendations to the FAA may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on August 21, 2001.
Tony F. Fazio,
Director, Office of Rulemaking.

[FR Doc. 01-21616 Filed 8-24-01; 8:45 am]

BILLING CODE 4910-13-M